DEPARTMENT OF DEFENSE

48 CFR Part 225

[DFARS Case 2002-D011]

Defense Federal Acquisition Regulation Supplement; Trade Agreements Thresholds—Construction

AGENCY: Department of Defense (DoD).

ACTION: Final rule.

SUMMARY: DoD has issued a final rule amending the Defense Federal Acquisition Regulation Supplement (DFARS). The rule implements the determination of the U.S. Trade Representative to revise the dollar thresholds for application of the Trade Agreements Act and the North American Free Trade Agreement (NAFTA) to construction contracts.

EFFECTIVE DATE: July 30, 2002.

FOR FURTHER INFORMATION CONTACT: Ms. Amy Williams, Defense Acquisition Regulations Council, OUSD (AT&L) DP (DAR), IMD 3C132, 3062 Defense Pentagon, Washington, DC 20301-3062. Telephone (703) 602-0328; facsimile (703) 602-0350. Please cite DFARS Case 2002-D011.

SUPPLEMENTARY INFORMATION:

A. Background

On March 27, 2002 (67 FR 14763), the U.S. Trade Representative published a determination that decreased the threshold for application of the Trade Agreements Act to construction contracts from $6,806,000 to $6,481,000; and increased the threshold for application of NAFTA to construction contracts from $7,068,419 to $7,304,733. This final rule amends the prescriptions for use of the clauses at DFARS 252.225-7044, Balance of Payments Program—Construction Material, and 252.225-7045, Balance of Payments Program—Construction Material Under Trade Agreements, to reflect the new dollar thresholds.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2002-D011.

C. Paperwork Reduction Act

The Paperwork Reduction Act does not apply because the rule does not impose any information collection requirements that require the approval of the Office of Management and Budget under 44 U.S.C. 3501, et seq.

List of Subjects in 48 CFR Part 225

Government procurement.

Michele P. Peterson,
Executive Editor, Defense Acquisition Regulations Council.

Therefore, 48 CFR Part 225 is amended as follows:

1. The authority citation for 48 CFR Part 225 continues to read as follows:

Authority: 41 U.S.C. 421 and 48 CFR Chapter 1.

PART 225—FOREIGN ACQUISITION

225.7503 [Amended]

2. Section 225.7503 is amended as follows:

a. In paragraph (a), and in paragraph (b) in the first and last sentences, by removing “$6,806,000” and adding in its place “$6,481,000”; and

b. In paragraph (b), in the last sentence, by removing “$7,068,419” and adding in its place “$7,304,733”.

[FR Doc. 02-19080 Filed 7-29-02; 8:45 am]

BILLING CODE 5001-08-P